DEPARTMENT OF COMMERCE

National Oceanic and Atmospheric Administration

[I.D. 081106B]

Magnuson-Stevens Act Provisions; General Provisions for Domestic Fisheries; Application for Exempted Fishing Permits (EFPs)

AGENCY: Department of Commerce, National Oceanic and Atmospheric Administration (NOAA), National Marine Fisheries Service (NMFS).

ACTION: Notification of a proposal for an EFP to conduct experimental fishing; request for comments.

SUMMARY: The Administrator, Northeast Region, NMFS (Regional Administrator) has made a preliminary determination that the subject Exempted Fishing Permit (EFP) application contains all the required information and warrants further consideration. The Regional Administrator has also made a preliminary determination that the activities authorized under the EFP would be consistent with the goals and objectives of the Atlantic Sea Scallop Fishery Management Plan (FMP). However, further review and consultation may be necessary before a final determination is made to issue the EFP. Therefore, NMFS announces that the Regional Administrator proposes to issue an EFP that would allow one or more vessels to conduct fishing operations that are otherwise restricted by the regulations governing the fisheries of the northeastern United States. The EFP would allow for exemptions from certain Atlantic sea scallop possession and landings restrictions.

DATES: Comments on this document must be received on or before September 1, 2006.

ADDRESSES: Written comments should be submitted by any of the following methods:

• Mail: Patricia A. Kurkul, Regional Administrator, NMFS, Northeast Regional Office, One Blackburn Drive, Gloucester, MA 01930. Mark the outside of the envelope, “Comments on Coonamessett Farm Inc. EFP Proposal (DA6-187);”

• E-mail: DA6-187@noaa.gov, include “Comments on Coonamessett Farm Inc. EFP Proposal” in the subject line of the e-mail;

• Fax: (978) 281-9135.

FOR FURTHER INFORMATION CONTACT: Ryan Silva, Fishery Management Specialist, phone: 978-281-9326, fax: 978-281-9135.

SUPPLEMENTARY INFORMATION: This project would attempt to observe, using video surveillance, how sea turtles interact with two scallop dredge designs. The control dredge would be a standard 13-ft (3.9-m) New Bedford-style scallop dredge. The experimental dredge will be a 13-ft (3.9-m) New Bedford-style scallop dredge with modifications to the cutting bar and bale strengthening bars to reduce the likelihood of turtle entrapment in the area between the depressor plate and the cutting bar.

The proposed research activity would occur between August 1, 2006, and July 31, 2007. The exempted vessel(s) would fish in areas open to general category vessels on the continental shelf off the coasts of New Jersey, Maryland, and Virginia. The vessel would be allowed to fish a maximum of 20 days under this EFP, with a total scallop catch not to exceed 8000 lb (3,629 kg) (400 lb/day) / (181 kg/day)). The vessel would conduct approximately 150 tows ranging from 15 - 49 minutes each, at speeds around 4 knots. Previous research in this area has shown bycatch to be limited. It is expected that fish bycatch may consist of 5,000 lb (2,268 kg) of little skate, less than 50 lb (22.7 kg) of monkfish, and approximately 300 lb (136 kg)of flatfish. All marketable scallops, and allowed retention of multispecies and monkfish, would be sold. Vessels will not be allowed to exceed the possession limit for any species other than sea scallops. All other incidental catch would be returned to the sea.

Regulations under the Magnuson-Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: August 11, 2006.
James P. Burgess,
Acting Director, Office of Sustainable Fisheries, National Marine Fisheries Service.

[FR Doc. E6-13551 Filed 8-16-06; 8:45 am]

BILLING CODE 3510-22-S